DEPARTMENT OF STATE

[Public Notice 3527]

Culturally Significant Objects Imported for Exhibition Determinations: “The Global Guggenheim: Selections From the Extended Collection”

DEPARTMENT: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681 et seq.), Delegation of Authority No. 234 of October 1, 1999 (64 FR 56014), and Delegation of Authority No. 236 of October 19, 1999 (64 FR 57920), as amended, I hereby determine that the objects to be included in the exhibit, “The Global Guggenheim: Selections from the Extended Collection,” imported from abroad for the temporary exhibition without profit within the United States, are of cultural significance. These objects are imported pursuant to a loan agreement with a foreign lender. I also determine that the temporary exhibition or display of the exhibit objects at the Solomon R. Guggenheim Museum, New York, New York, from on or about February 6 to on or about April 22, 2001, is in the national interest. Public Notice of these determinations is ordered to be published in the Federal Register.

FOR FURTHER INFORMATION CONTACT: For further information, including a list of exhibit objects, contact Julianne C. Simpson, Attorney-Adviser, Office of the Legal Adviser, 202/619-6529, and the address is SA-44, Room 700, United States Department of State, 301 4th Street, SW., Washington, DC 20547-0001.

Dated: December 19, 2000.
William B. Bader,
Assistant Secretary for Educational and Cultural Affairs.

[FR Doc. 00-32869 Filed 12-22-00; 8:45 am]

BILLING CODE 4710-08-P